NUCLEAR REGULATORY COMMISSION

[NRC-2013-0260]

Update of the Office of Nuclear Reactor Regulation's Electronic Operating Reactor Correspondence

The U.S. Nuclear Regulatory Commission (NRC) is issuing this Federal Register notice to inform the public of a slight change in the manner of distribution of publicly available operating reactor licensing correspondence, effective December 9, 2013. Official agency records will continue to be made publically available in accordance with the agency's policy in the NRC's Agencywide Documents Access and Management System, which may be accessed through the NRC's Web page http://www.nrc.gov.

On September 30, 2008, the Division of Operating Reactor Licensing began transmitting correspondence to addressees and subscribers through a computer-based email distribution system. Since then, the regional offices and other divisions within the NRC have been using this email distribution system. To be consistent with the NRC Management Directive 3.4, “Release of Information to the Public,” correspondence will be distributed to the subscribers after a slight delay, in order to provide the addressee with an opportunity to read the correspondence, before it is issued to the subscribers.

Individuals may subscribe to receive NRC-generated operating reactor correspondence by entering the following URL into their Web browser address bar: http://www.nrc.gov/public-involve/listserver/plants-by-region.html, or through the NRC's Web site, by selecting the “Public Meetings & Involvement” tab. For questions, please contact the email address listed on the Web site.

Dated at Rockville, Maryland, this 21st day of November, 2013.
For the Nuclear Regulatory Commission.
Michele G. Evans,
Director, Division of Operating Reactor Licensing, Office of Nuclear Reactor Regulation.

[FR Doc. 2013-28699 Filed 11-27-13; 8:45 am]

BILLING CODE 7590-01-P